DEPARTMENT OF ENERGY

Federal Energy Regulatory Commission

Notice of Scoping Meetings and Site Visits and Soliciting Scoping Comments

November 9, 2000.

Take notice that the following hydroelectric application has been filed with the Commission and is available for public inspection:

a. Type of Application: A New Major License.

b. Project Nos.: 2597-018 and 2576-023.

c. Date filed: August 31, 1999.

d. Applicant: Northeast Generation Company.

e. Names of Projects: Falls Village Project and Housatonic Project which are filed as a single application under the designation “The Housatonic River Project.”

f. Location: On the Housatonic River, near the towns of Canaan, North Canaan, Salisbury, Bridgewater, Brookfield, Danbury, Kent, Monroe, Newtown, New Fairfield, New Milford, Oxford, Roxbury Sherman and Southbury, in Fairfield, New Haven and Litchfield counties, Connecticut. Approximately 74 acres of federal land are within project boundaries.

g. Filed Pursuant to: Federal Power Act, 16 USC 791(a)-825(r).

h. Applicant Contact: Mr. Robert A. Gates, Project Manager, Northeast Generating Services, 143 West Street, New Milford, Connecticut 06776 (860) 354-8840. Gatesr@nu.com

i. FERC Contact: James T. Griffin, (202) 219-2799.

j. Deadline for filing scoping comments: 60 days from the issuance of this Notice.

All documents (original and eight copies) should be filed with: David P. Boergers, Secretary, Federal Agency Regulatory Commission, 888 First Street, NE, Washington, DC 20426. Comments and protests may be filed electronically via the internet in lieu of paper. See, 18 CFR 385.2001(a)(1)(iii) and the instructions on the Commission's web site at http://www.ferc.fed.us/efi/doorbell.htm.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: This application is not ready for environmental analysis at this time.

l. Description of the projects:

The two projects represented in the Housatonic River Project Application comprise five developments: the Falls Village, Bulls Bridge, Shepaug, Rocky River and Stevenson developments are located on the Housatonic River, 76.2 miles, 52.9 miles, 44.1 miles, 30.0 and 19.3 miles respectively from its mouth.

1. The Falls Village development consists of the following existing facilities: (a) A 300-foot-long, 14-foot-high concrete gravity dam with two spillways having a combined overflow length of approximately 280 feet, and a crest elevation of 631.5 feet National Geodetic Vertical Distance (NGVD); (b) an impoundment 3.8 miles long containing 1,135 acre-feet when at elevation 633.2 feet NGVD; (c) a dam-integral powerhouse with a total installed capacity of 9.0 megawatts (MW) producing approximately 39,733,500 kilowatt-hours (kWh) annually; and (d) a switch yard connected to the project via a 69 kilovolt (kV) interconnected transmission line.

2. The Bulls Bridge development consists of: (a) A 203-foot-long, 24-foot-high stone and concrete gravity dam with a dam crest of 354 feet NGVD; (b) a two-mile-long power canal; (c) a 156-foot-long, 17-foot-high rock fill gravity weir dam; (d) a 2.25-mile-long reservoir with an 1,800 acre-feet storage capacity and a surface area of approximately 120 acres at normal elevation of 354 feet NGVD; (e) a powerhouse with a capacity of 7.2 MW, developing an average of 44,079,300 kWh annually; and (f) a 69 kV line which connects the development to the Rocky River development.

3. The Rocky River Pumped Storage development consists of: (a) A 952-foot-long earth-filled core wall dam, a 2,500-foot-long earthen canal dike that forms the north bank of the power canal to the intake structure, two earthen and one concrete Lanesville dike, Recreation Point and Danbury dikes, a dam crest elevation averaging 440.1 feet NGVD, and an intake canal 3,190 feet in length; (b) the seven mile-long Candlewood Lake reservoir with a 5,610 acre impoundment at 428.1 feet NGVD; (c) a powerhouse with a rated capacity of 31,000 kW and averaging 14,238,100 kWh production per year; and (d) a development connection to the applicant's transmission system via the Rocky River-Carmel Hill 1813 line, the Rocky River-Bull Bridge 1555 line and the Rocky River-West Brookfield 1618 line.

4. The Shepaug development consists of: (a) A 1412-foot, bedrock-anchored, concrete gravity dam having a crest elevation of 205.3 feet NGVD; (b) an impoundment, at maximum operational elevation level of 198.3 feet NGVD, measuring 1,870 acres; (c) a powerhouse with a rated capacity of 37,200 kW, with an average annual production of 129,663,300 kWh and (d) a development connection to the applicant's transmission system via the Shepaug-Bates 1622 line and the Shepaug-Stony-Hill-West Brookfield 1887 line.

5. The Stevenson Development consists of: (a) A 1,250-foot, bedrock-anchored, concrete gravity dam with a crest elevation of 98.3 feet NGVD, 696 feet of spillway and an integral powerhouse; (b) an impoundment having a surface area measuring 1,063 acres at 101.3 feet NGVD, with a storage volume of 2,650 acre-feet; (c) a powerhouse with a rated capacity of 30,500 kW, with an average annual production of 92,970,270 kWh; and (d) a development connection to the applicant's transmission system via several 115-kV transmission lines.

m. Locations of the application: A copy of the application is available for inspection and reproduction at the Commission's Public Reference Room, located at 888 First Street, NE, Room 2A, Washington, D.C. 20246, or by calling (202) 208-1371. This filing may be viewed on the web at http://www.ferc.fed.us/online/rims.htm (call 202-208-2222 for assistance). A copy is also available for inspection and reproduction at the address in item h above.

n. Scoping Process: The Commission intends to prepare an Environmental Assessment (EA) for the proposed relicensing of the Falls Village Project (FERC No. 2597-018) and Housatonic Project (FERC No. 2576-023), in accordance with the National Environmental Policy Act. The EA will consider both site-specific and cumulative environmental impacts and reasonable alternatives to the proposed actions.

Scoping Meetings

The Commission will hold three scoping meetings, one in the daytime and two in the evening, to help us identify the scope of issues to be addressed in the EA.

The daytime scoping meeting will focus on resource agency concerns, while the evening scoping meetings are primarily for public concerns. All interested individuals, organizations, and agencies are invited to attend either or both meetings, and to assist the staff in identifying the scope of the environmental issues that should be analyzed in the EA. The times and locations of these meetings are as follows:

Evening Meetings

Monday, December 4, 2000, 7:00 to 9:00 p.m., Lee Kellogg Elementary School, Multipurpose Room, 47 Main Street, Falls Village, CT 06031

Wednesday, December 6, 2000, 7:00 to 9:00 p.m., Northville Elementary School Cafeteria, 22 Hipp Road, New Milford, CT 06776

Afternoon Meeting

Thursday, December 7, 2000, 1:00—3:00 p.m., First South Congregational Church, Stanley Room (Second Floor), 277 Main St., Hartford, CT 06106

To help focus discussions, we will distribute to parties on the Commission's mailing list a Scoping Document (SD1) outlining the subject areas to be addressed in the EA. Copies of the SD1 will also be available at the scoping meetings.

Objectives

At the scoping meetings, the staff will: (1) Summarize the environmental issues that the Commission staff tentatively has identified for analysis in the EA; (2) take statements from experts and the public on issues that should be analyzed in the EA, including viewpoints in opposition to, or in support of, those issues identified by the Commission staff; (3) identify those issues that require a detailed analysis, as well as those issues that do not require a detailed analysis; and (4) solicit all available information, especially quantifiable data, on the resources at issue;

The meetings will be recorded by a stenographer and will become part of the formal record of the Commission's proceeding on the project. Individuals presenting statements at the meeting will be asked to sign in before the meeting starts and to identify themselves clearly for the record.

Individuals, organizations, and agencies are encouraged to attend the meeting and to assist the staff in defining and clarifying the issues to be addressed in the EA.

Site Visit

The applicant and the Commission staff will conduct a project site visit in two segments on December 5th and 6th, 2000. The first day we will meet at 8:30 a.m. the Northeast Generation Services—CT Hydro Office parking lot in New Milford and travel by bus to the facilities in the upper part of the study area, returning to New Milford at about 4:00 p.m. The second day we will meet at the same location and time but will proceed (again by bus) to the southern facilities, completing the visit in New Milford at about 4:00 p.m. If you would like to attend one or both days of the site visit, please call (Robert Gates of Northeast Generation Services), no later than December 1, 2000, at (860)354-8840 or at gatesr @nu.com.

Linwood A. Watson, Jr.,
Acting Secretary.

[FR Doc. 00-29350 Filed 11-15-00; 8:45 am]

BILLING CODE 6717-01-M